DEPARTMENT OF ENERGY

Federal Energy Regulatory Commission

[Docket No. RP07-127-000]

Texas Eastern Transmission; LP Notice of Proposed Changes in FERC Gas Tariff

January 4, 2007.

Take notice that on December 29, 2006, Texas Eastern Transmission, LP (Texas Eastern) tendered for filing as part of its FERC Gas Tariff, Seventh Revised Volume No. 1 and First Revised Volume No. 2, revised tariff sheets, as listed on Appendix B to the filing, to become effective February 1, 2007.

Texas Eastern states that these revised tariff sheets are filed pursuant to Section 15.1, Electric Power Cost (EPC) Adjustment, of the General Terms and Conditions of Texas Eastern's FERC Gas Tariff, Seventh Revised Volume No. 1. Texas Eastern states that Section 15.1 provides that Texas Eastern shall file, to be effective each February 1, revised rates for each applicable zone and rate schedule, based upon the projected annual EPC required for the operation of transmission compressor stations with electric motor prime movers. The revised tariff sheets also reflect the EPC Surcharge, which is designed to clear the balance in the Deferred EPC Account.

Texas Eastern states that all costs of electric power compression required for the incremental services under the Freehold Project and the M-1 Expansion Project are appropriately assigned to the incremental projects as required by the Commission orders certificating those projects. In addition, Texas Eastern states that it has based its EPC allocation to the TIME Project on the methodology set forth in the Commission-approved joint settlement in Docket Nos. RP03-542, et al.

Texas Eastern states that generally, the revised tariff sheets reflect an increase in Texas Eastern's EPC Adjustment. For example, the proposed rate changes to the primary firm capacity reservation charges, usage rates and 100% load factor average costs for full Access Area Boundary service from the Access Area Zone, East Louisiana, to the three market area zones are as follows:

Zone | Reservation | Usage | 100% load factor
Market 1 | $0.035/Dth | $0.0012/Dth | 0.0024/Dth
Market 2 | 0.104/Dth | 0.0040/Dth | 0.0074/Dth
Market 3 | 0.152/Dth | 0.0056/Dth | 0.0106/Dth

Texas Eastern states that copies of its filing have been served upon all affected customers of Texas Eastern and interested State commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, D.C. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E7-270 Filed 1-11-07; 8:45 am]

BILLING CODE 6717-01-P